DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marianas Trench Marine National (MTMN) Monument Knowledge and Attitudes Survey.

OMB Control Number: None.

Form Number(s): NA.

Type of Request: Regular submission (request for a new information collection).

Number of Respondents: 1,000.

Average Hours per Response: 20 minutes.

Burden Hours: 333.

Needs and Uses: President George W. Bush established the Marianas Trench Marine National Monument (Monument) on January 6, 2009, by Presidential Proclamation 8335. The Islands Unit of the Monument includes only the waters and submerged lands of the three northernmost Mariana Islands: Farallon de Pajaros or Uracas; Maug; and Asuncion, below the mean low water line. Within the Islands Unit, commercial fishing is prohibited but sustenance, recreational, and traditional indigenous fishing can be allowed on a sustainable basis.

Management activities under the Department of the Interior are anticipated to include public education programs and public outreach regarding the coral reef ecosystem and related marine resources and species of the Monument and efforts to conserve them; traditional access by indigenous persons, for culturally significant subsistence, cultural and religious uses within the Monument; a program to assess and promote Monument-related scientific exploration and research, tourism, and recreational and economic activities and opportunities in the Commonwealth of the Northern Mariana Islands (CNMI); a process to consider requests for recreational fishing permits in certain areas of the Islands Unit, based on an analysis of the likely effects of such fishing on the marine ecosystems of these areas, sound professional judgment that such fishing will not materially interfere with or detract from the fulfillment of the purposes of this proclamation, and the extent to which such recreational fishing shall be managed as a sustainable activity; programs for monitoring and enforcement necessary to ensure that scientific exploration and research, tourism, and recreational and commercial activities do not degrade the Monument's coral reef ecosystem or related marine resources or species or diminish the Monument's natural character.

The Human Dimensions Research Program at NOAA Fisheries Pacific Islands Fisheries Science Center is initiating a survey to support development of a management plan for the Monument. Designation of the Monument was accompanied by social debate over the merits of designation, the economic benefits, increased federal management in the archipelago, the impacts to fishermen and fishing communities, and other effects. Now that the Monument has been established and management planning is beginning, there is a need for research to define CNMI and Guam residents' management preferences and perceptions of effects so this information is available to managers as they develop and begin to implement the plan. The survey contains questions on awareness, knowledge, and attitudes regarding the Monument, preferences for management and scientific research, and level of interest in becoming involved in Monument management and outreach activities. Additional questions include experiences with and attitudes toward existing uses of coastal and marine resources, to provide a context for interpreting responses regarding the Monument.

Affected Public: Individuals or households.

Frequency: One time.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: August 10, 2011.
Gwellnar Banks,
Management Analyst, Office of the Chief Information Officer.

[FR Doc. 2011-20655 Filed 8-12-11; 8:45 am]

BILLING CODE 3510-22-P